ENVIRONMENTAL PROTECTION AGENCY

[FRL-6952-6]

Science Advisory Board; Emergency Notification of Public Advisory Committee Meeting(s)

Pursuant to the Federal Advisory Committee Act, Public Law 92-463, notice is hereby given that one committee of the US EPA Science Advisory Board (SAB) will hold a public teleconference meet on the date and time noted below. All times noted are Eastern Daylight Time. All meetings are open to the public, however, seating is limited and available on a first come basis.

Executive Committee (EC) Workgroup—Teleconference March 22, 2001

A workgroup of the Science Advisory Board's (SAB) Executive Committee (EC) will conduct a public teleconference meeting on Friday, March 22, 2001 between the hours of 11:00 a.m. and 1:00 p.m. (Eastern Daylight Time). The meeting will be coordinated through a conference call connection in Room 6013 in the USEPA, Ariel Rios Building, 1200 Pennsylvania Avenue, NW., Washington, DC 20004. The public is encouraged to attend the meeting in the conference room noted above, however, the public may also attend through a telephonic link if lines are available. Additional instructions about how to participate in the conference call can be obtained by calling Mrs. Diana Pozun one week prior to the meeting (March 15, 2001) at (202) 564-4544, fax (202) 501-0323, or via e-mail at pozun.diana@epa.gov.

Purpose of the Meeting

At this meeting, the EC workgroup will discuss and take public comment on a draft commentary letter it is developing. This draft Commentary, “Improving Science-Based Environmental Stakeholder Processes,” (this draft Commentary will be available on the SAB website www.epa.gov/sab, directions below) results from a commitment of the EC to examine the use of science in stakeholder processes, as documented in an earlier SAB Commentary “Science Advisory Board Commentary on the Role of Science in ‘New Approaches’ to Environmental Decision Making that Focuses on Stakeholder Involvement,” EPA-SAB-EC-COM-00-002, October 7, 1999 (This Commentary is available on the SAB website www.epa.gov/sab, directions below). In that earlier Commentary, the EC noted that: (1) The SAB “enthusiastically support[s] the Agency's efforts to develop and promote new, more flexible, adaptive approaches to environmental regulations;” (2) involving representatives of specific interested or affected parties in environmental decision making is clearly important; (3) the Agency has a responsibility to represent the broad public interest; (4) it is in the broad public interest to base environmental decisions on a “full and careful consideration of all available science;” and (5) in “newer decision environments, which involve a greater focus on consultation and negotiation among directly involved stakeholders,” there is a risk that full consideration of all available science may receive too little attention.

The SAB EC has held four workshops (see 64 FR 58840-58841, November 1, 1999; 65 FR 7549-7550, February 15, 2000; 65 FR 39614, June 27, 2000; and 65 FR 60663-60664, October 12, 2000) with the objective of better understanding the way in which scientific and technical knowledge is being developed and used in stakeholder processes, and identifying strategies which might allow such knowledge to be better developed and used in such processes in the future. Based on information gained in these workshops and published information on the use of science in stakeholder processes, the SAB will finalize its Commentary (Improving Science-Based Environmental Stakeholder Processes) to the Administrator. The Commentary will provide advice to help Agency improve public involvement processes for environmental protection and the use of science in those processes.

At the March 22 teleconference, the SAB EC will be seeking public input on: (1) Whether the draft Commentary makes factual errors; (2) whether there is important evidence or published literature that the draft Commentary needs to better acknowledge or incorporate; and (3) suggestions for ways the draft Commentary may be improved. Given the fact-finding nature of this teleconference call, the SAB EC requests that members of the public seeking to provide oral comments provide a text of their comments in writing to the Designated Federal Officer, Dr. Angela Nugent by noon on March 19, 2001 via e-mail, fax or mail (see contact information below) so that she can plan the agenda.

Availability of Review Materials

The draft document, Improving Science-Based Environmental Stakeholder Processes will be posted on the SAB website www.epa.gov/sab (under the DRAFT REPORTS heading) seven business days in advance of the meeting or will be available from Mrs. Pozun (see previous contact information, above). The earlier Science Advisory Board Commentary on the Role of Science in ‘New Approaches' to Environmental Decision Making that Focuses on Stakeholder Involvement, EPA-SAB-EC-COM-00-002, October 7, 1999 is available on the SAB website http://www.epa.gov/sab (under the REPORTS heading and then the FISCAL YEAR 2000 REPORTS subheading).

For Further Information

Any member of the public wishing further information concerning this meeting or wishing to submit brief oral comments must contact Dr. Angela Nugent, Designated Federal Officer, US EPA Science Advisory Board (Mail Code 1400A), Room 6450, U.S. Environmental Protection Agency, 1200 Pennsylvania Avenue, NW., Washington, DC 20460; telephone (202) 564-4562; FAX (202) 501-0323; or via e-mail at nugent.angela@epa.gov. Requests for oral comments must be in writing (e-mail, fax or mail) and received by Dr. Nugent no later than noon Eastern Time on March 19, 2001.

Providing Oral or Written Comments at SAB Meetings

It is the policy of the Science Advisory Board to accept written public comments of any length, and to accommodate oral public comments whenever possible. Oral Comments: For this teleconference meeting, opportunities for oral comment will usually be limited to no more than five minutes per speaker. Deadlines for getting on the public speaker list for a meeting are given above. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information

Additional information concerning the Science Advisory Board, its structure, function, and composition, may be found on the SAB Website (http://www.epa.gov/sab) and in The FY2000 Annual Report of the Staff Director which is available from the SAB Publications Staff at (202) 564-4533 or via fax at (202) 501-0323. Committee rosters, draft Agendas and meeting calendars are also located on our website.

Meeting Access

Individuals requiring special accommodation at this meeting, including wheelchair access to the conference room, should contact the Dr. Nugent at least five business days prior to the meeting so that appropriate arrangements can be made.

Dated: March 6, 2001.
Donald G. Barnes,
Staff Director, Science Advisory Board.

[FR Doc. 01-6176 Filed 3-9-01; 8:45 am]

BILLING CODE 6560-50-P